DEPARTMENT OF THE INTERIOR

Bureau of Land Management

[OR-958-6310-PF-24 1A]

Extension of Approved Information Collection, OMB Control Number 1004-0168

AGENCY: Bureau of Land Management, Interior.

ACTION: Notice and request for comments.

SUMMARY: In accordance with the Paperwork Reduction Act of 1995, the Bureau of Land Management (BLM) requests the Office of Management and Budget (OMB) to extend an existing approval to collect certain information from private landowners. The BLM uses Form OR 2812-6, Report of Road Use, to collect this information. This information allows the BLM to determine road use and maintenance fees for logging road right-of-way permits issued under the O&C Logging Road Right-of-Way regulations (43 CFR subpart 2812).

DATES: You must submit your comments to BLM at the address below on or before August 8, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN: 1004-0168” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact John Styduhar, BLM Oregon State Office, on (503) 952-6454 (Commercial or FTS). Persons who use a telecommunications device for the deaf (TDD) may call the Federal Information Relay Service (FIRS) at 1-800-877-8330, 24 hours a day, seven days a week, to contact Mr. Styduhar.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the burden of the proposed collection of information, including the validity of the methodology and assumptions we use;

(c) Ways to enhance the quality, utility, and clarity of the information collected; and

(d) Ways to minimize the burden of the collection of information on those who are to respond, including the use of appropriate automated, electronic, mechanical, or other technological collection techniques or other forms of information technology.

BLM may authorize private landowners in western Oregon to transport their timber over BLM-controlled roads under Title V of the Federal Land Policy and Management Act of 1976 (43 U.S.C. 1761). The logging road right-of-way permits that BLM issues are subject to the requirements of the O&C Logging Road Right-of-Way regulations (43 CFR subpart 2812). As a condition of each right-of-way permit, a permittee must provide us with a certified statement containing the amount of timber removed, the lands from which the timber was removed, and the BLM roads used to transport the timber. Permittees must submit this information on a quarterly basis using the Form OR-2812-6, Report of Road Use.

The fees we receive for road use contribute to the recovery of costs incurred in the construction of forest access roads. The fees we collect for road maintenance are reimbursements for services we provide to maintain roads. If we did not require the collection of information included in the Repot of Road Use form, it would not be possible to determine payment amounts, ledger account status, or monitor compliance with the terms and conditions of the permit. The cost for services we provide would not be collected in a timely manner if we reduce the frequency of reporting. This has a direct effect on the ability of BLM to properly maintain its road system, protect the road investment, and provide safe and efficient access to the public lands.

Based on our experience administering the activities described above, we estimate the public reporting burden for the information collected is 1 hour per response. The 400 respondents include individuals, partnerships, and corporations engaged to remove and transport timber and other forest products. The frequency of response is quarterly. We estimate 1,600 responses per year and a total annual burden of 1,600 hours.

BLM will summarize all responses to this notice and include them in the request for OMB approval. All comments will become a matter of public record.

Dated: June 5, 2006.
Ted R. Hudson,
Bureau of Land Management, Information Collection Clearance Officer.

[FR Doc. 06-5235 Filed 6-8-06; 8:45 am]

BILLING CODE 4310-84-M